DEPARTMENT OF AGRICULTURE

Forest Service

Kirkwood Mountain Resort's 2003 Mountain Master Development Plan; Eldorado National Forest, Placer County, CA

AGENCY: Forest Service, USDA.

ACTION: Notice of intent to prepare an environmental impact statement.

SUMMARY: The Eldorado National Forest, Amador Ranger District is preparing an Environmental Impact Statement (EIS) analyzing proposed improvements outlined in Kirkwood Mountain Resort's 2003 Mountain Master Development Plan, which provides for long-range planning on National Forest System lands with Kirkwood's Special Use Permit (SUP) area. The August 2001 Mountain Master Development Plan was slightly revised in September 2003 in order to accurately reflect Kirkwood's 2003 Specific Plan, which was recently approved via the California Environmental Policy Act review process, and provides for long-range development of private lands within the Kirkwood community. Therefore, the August 2001 Mountain Master Development Plan will be referred to as the 2003 MMDP. The projects detailed within the 2003 MMDP were evaluated cumulatively within the 2003 Kirkwood Recirculated Revised Final Environmental Impact Report.

The 2003 MMDP provides a detailed account of the Kirkwood's existing and potential recreational assets, constraints, and future needs. Kirkwood is seeking site-specific NEPA review of all projects identified in the 2003 MMDP which, if approved, could be implemented within five to eight years.

The 2003 MMDP focuses on enhancing the recreational experience at Kirkwood by providing for improvements to: the lift and terrain network; on-mountain guest services; snowmaking coverage; infrastructure; and non-skiing/riding activities. Due to the nature of Kirkwood's lift and terrain network, some of the proposals contained in the 2003 MMDP overlap onto adjacent, private property; however, all proposals for NFS lands are confined to Kirkwood's existing SUP area, and the SUP area is not proposed for expansion or modification.

DATES: Comments concerning the scope and implementation of this proposal should be received by November 7, 2003.

ADDRESSES: Send comments to Anthony Botello, Project Leader, Eldorado National Forest, 26820 Silver Drive, Pioneer, CA 95666, (209) 295-5998 Fax

FOR FURTHER INFORMATION CONTACT: Questions and comments about this EIS should be directed to Anthony Botello, at the above address, or call him at (209) 295-5960.

SUPPLEMENTARY INFORMATION: Kirkwood's Alpine comfortable carrying capacity (CCC—defined as the optimum number of guests accommodated by a resort at any one time, which affords a high quality recreational experience) is derived from the resort's combined uphill hourly capacity and the estimated demand for vertical transport. The 2003 MMDP proposes to increase Alpine CCC at Kirkwood from 6,460 guests to 9,300 guests.

Six existing aerial lifts are proposed for upgrades and/or realignments, including: Caples Crest (Chair 2)—which would be renamed “Flying Carpet” with full implementation of the 2003 MMDP; Iron Horse (Chair 3); Sunrise (4); Solitude (Chair 5); Wagon Wheel (Chair 10); and Reut (Chair 11). Two new chairlifts are proposed—Caples Crest Express and Thimble Peak (lifts A and C, respectively), as well as four new surface lifts—Look Out Vista (Lift B), Covered Wagon (Lift D), Red Cliffs (Lift E) and a snowplay lift. Proposed aerial and surface lifts would provide access to existing hike-to terrain within Kirkwood's SUP area.

Proposed terrain additions and improvements are proposed within Kirkwood's SUP area which would increase Kirkwood's formalized (i.e., named) trail network from approximately 567 acres to approximately 781 acres. (Off-piste (i.e., natural/ungroomed) terrain is not accounted for in this trail inventory or acreage). Seasonal construction (i.e., from snow only) of a terrain park under Chair 4 and miscellaneous trail widening and improvements are proposed to improve the quality and diversity of the recreational experience offered at Kirkwood. The majority of terrain additions are proposed in open bowls, natural glades, and above treeline areas. Minor amounts of vegetation removal are proposed in association with new lift access and trails.

The Proposed Action includes installation of additional snowmaking infrastructure as well as re-analysis of previously approved, unimplemented snowmaking infrastructure. At full build-out, Kirkwood would offer approximately 192 acres of snowmaking coverage (56 acres of existing plus proposed/previously approved).

An on-mountain lodge near the summit of Caples Crest with year-round casual and fine dining, 700 indoor and 500 outdoor seats, restrooms, and ski patrol facilities, is proposed.

New ski patrol duty stations would be constructed atop the Covered Wagon, Thimble Peak, and the Red Cliffs lifts. In addition, the Proposed Action provides for modifications to the Chair 10 ski patrol duty station; and replacement of the Chair 2 ski patrol duty station with ski patrol space allocated in the Caples Crest Lodge. An overnight snowcat storage facility (for one machine) atop the Wagon Wheel Chairlift (Chair 10) and storage for an additional snowcat atop the Cornice Chairlift (Chair 6) is also proposed.

Non-skiing/riding improvements include: relocation and redesign of Kirkwood's snowtubing area to a mix of NFS/private lands near the Village; a paragliding program with launch sites accessed via the Caples Crest Express, Cornice Express, and Wagon Wheel chairlifts; improved access to Kirkwood's multiple use trails and a modified scenic ride program are also proposed; and improvement of two existing Nordic trails (Agony and Ecstasy) by using limited rock blasting within the existing trail corridor.

Infrastructural improvements include updating on-mountain utilities including power, water, sewer and communication lines.

A number of other projects on private lands at Kirkwood are addressed in Kirkwood's 2003 Specific Plan. While facilities and projects located on private lands will not be analyzed in detail in this EIS, they have been incorporated into the overall planning and will be discussed cumulatively.

The Proposed Action is consistent with the 1989 Eldorado National Forest Land and Resource Management Plan as amended by the Sierra Nevada Forest Plan Amendment Record of Decision (2001).

The decision to be made is whether to adopt and implement the Proposed Action, an alternative to the Proposed Action, or take no action.

Other alternatives will be developed based on significant issues identified during the scoping process for the Environmental Impact Statement. All alternatives will need to respond to the states Purpose and Need. Alternatives being considered at this time include: (1) No Action and (2) the Purposed Action.

Public participation will be especially important at several points during the analysis. The Forest Service will be seeking information, comments, and assistance from the Federal, State, and local agencies and other individuals or organizations who may be interested in or affected by the Proposed Action. To facilitate public participation, information about the Proposed Action is being mailed to all who have expressed interest in the Proposed Action and notification of the public scoping period will be published in the Mountain Democrat, Placerville, CA.

Comments submitted during the scoping process should be specific to this proposed action. The comments should describe as clearly and completely as possible any issues the commenter has with the proposal. The scoping process includes:

(a) Identifying potential issues;

(b) Identifying issues to be analyzed in depth.

(c) Eliminating non-significant issues or those previously covered by a relevant previous environmental analysis;

(d) Exploring additional alternatives;

(e) Identifying potential environmental effects of the Proposed Action and alternatives;

The draft EIS will be filed with the Environmental Protection Agency (EPA) and is expected to be available for public review by late Spring/early Summer 2004. EPA will publish a Notice of Availability (NOA) of the draft EIS in the Federal Register at that time. The comment period on the draft EIS will be 45 days from the date the EPA NOA appears in the Federal Register. At that time, copies of the draft EIS will be distributed to interested and affected agencies, organizations, and members of the public for their review and comment. It is very important that those interested in the management of the Eldorado National Forest participate at that time.

The Forest Service believes it is important to give reviewers notice at this early stage of several court rulings related to public participation in the environmental review process. First, reviewers of a draft EIS must structure their participation in the environmental review of the proposal so that it is meaningful and alerts an agency to the reviewer's position and contentions. (Vermont Yankee Nuclear Power Corp. v. NRDC., 435 U.S. 519, 553 (1978)). Also, environmental objections that could be raised at the draft EIS stage, but that are not raised until after completion of the final EIS may be waived or dismissed by the courts (City of Angoon v. Hodel, 803f. 2d 1016, 1022 (9th Cir, 1986) and Wisconsin Heritages, Inc. v. Harris, 490 F. Supp. 1334, 1338 (E.D. Wis. 1980)). Because of these court rulings, it is very important that those interested in this Proposed Action participate by the close of the comment period so that substantive comments and objections are made available to the Forest Service at a time when it can meaningfully consider them and respond to them in the final EIS.

To assist the Forest Service in identifying and considering issues and concerns on the Proposed Action, comments on the draft EIS should be as specific as possible. It is also helpful if comments refer to specific pages or chapters of the draft EIS. Comments may also address the adequacy of the draft EIS or the merits of the alternatives formulated and discussed in the statement. (Reviewers may wish to refer to the Council on Environmental Quality Regulations for implementing the procedural provisions of the National Environmental Policy Act at 40 CFR 1503.3 in addressing these points).

The final EIS is anticipated to be completed in fall 2004. In the final EIS, the Forest Service is required to respond to substantive comments received during the comment period that pertain to the environmental consequences discussed in the draft EIS and applicable laws, regulations, and policies considered in making the decision regarding this proposal.

Judith Yandoh, Amador District Ranger, Eldorado National Forest is the responsible official. As the responsible official she will document the decision and reasons for the decision in the Record of Decision. That decision will be subject to Forest Service appeal regulations (36 CFR part 215).

Dated: September 30, 2003.
Anthony Botello,
Acting Amador District Ranger.

[FR Doc. 03-25486 Filed 10-7-03; 8:45 am]

BILLING CODE 3410-11-M